DEPARTMENT OF HOMELAND SECURITY

Coast Guard

33 CFR Part 117

[Docket No. USCG-2015-0767]

Drawbridge Operation Regulation; Hood Canal, Port Gamble, WA

AGENCY: Coast Guard, DHS.

ACTION: Notice of deviation from drawbridge regulation.

SUMMARY: The Coast Guard has issued a temporary deviation from the operating schedule that governs the Hood Canal Floating Drawbridge across Hood Canal (Admiralty Inlet), mile 5.0, near Port Gamble, WA. This deviation allows the bridge to open the draw span half-way, 300 feet; as opposed to all the way, which is 600 feet. One half of the span will remain closed, allowing for the replacements of bridge anchors for this section of the bridge.

DATES: This deviation is effective from 6 a.m. on August 27, 2015, until 7 p.m. on September 30, 2015.

ADDRESSES: The docket for this deviation, [USCG-2015-0767] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email d13-pf-d13bridges@uscg.mil. If you have questions on viewing the docket, call Cheryl Collins, Program Manager, Docket Operations, telephone 202-366-9826.

SUPPLEMENTARY INFORMATION: Washington Department of Transportation (WSDOT) has requested that the Hood Canal Floating Drawbridge only open half of the span to facilitate safe and uninterrupted bridge anchor replacements. The Hood Canal Floating Drawbridge crosses Hood Canal, mile 5.0, near Port Gamble, WA. The bridge has two fixed spans (East and West), and one draw span (Main). The East span provides 50 feet of vertical clearance, and the West span provides 35 feet of vertical clearance. The Main span provides zero feet of vertical clearance in the closed-to-navigation position, and unlimited vertical clearance in the open-to-navigation position. Vertical clearances are referenced to mean high-water elevation.

The deviation period allows the draw span of the Hood Canal Floating Drawbridge across Hood Canal, mile 5.0, to open half-way from 6 a.m. on August 27, 2015 until 7 p.m. on September 30, 2015.

During the time of the deviation, the drawbridge will not be able to operate according to the normal operating schedule. The normal operating schedule for the bridge is in accordance with 33 CFR 117.1045, which allows, with at least one hour's notice, on signal, for the draw to open horizontally for 300 feet unless the maximum opening of 600 feet is requested; and need not open for vessel traffic from 3 p.m. to 6:15 p.m. daily from 3 p.m. on May 22 to 6:16 p.m. on September 30. The bridge shall operate in accordance to 33 CFR 117.1045 at all other times. Waterway usage on this part of Hood Canal includes vessels ranging from commercial tug and barge to U.S. Navy vessels, and vessels attending the missions of the U.S. Navy to small pleasure craft.

Vessels able to pass through the East and West spans may do so at anytime. The Main span does not provide passage in the closed-to-navigation position. The bridge will be able to open half the Main span for Navy vessels during emergencies, when requested by the Department of the Navy. The Hood Canal Floating Drawbridge has two immediate alternate spans for vessels to pass (East span and West span). The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: August 11, 2015.
Steven M. Fischer,
Bridge Administrator, Thirteenth Coast Guard District.

[FR Doc. 2015-20671 Filed 8-20-15; 8:45 am]

BILLING CODE 9110-04-P